DEPARTMENT OF ENERGY

Federal Energy Regulatory Commission

[Docket No. EL01-55-000]

Mirant Americas Energy Marketing, L.P., et al. v. New York Independent System Operator, Inc., Notice of Complaint

March 20, 2001.

Take Notice that on March 16, 2001, Mirant Americas Energy Marketing, L.P., Mirant New York, Inc., Mirant Bowline, LLC, Mirant Lovett, LLC and Mirant NY-Gen, LLC tendered for filing a Motion to Intervene, Answer and Complaint Requesting Fast Track Procedures. A copy of this filing was served upon all persons on the official service list in the captioned proceeding.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before March 28, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before March 28, 2001. Comments, protests and interventions may be filed electronically via the internet in lieu of paper. See, 18 CFR 385.2001(a)(1)(iii) and the instructions on the Commission's web site at http://www.ferc.fed.us/efi/doorbell.htm.

David P. Boergers,
Secretary.

[FR Doc. 01-7359 Filed 3-23-01; 8:45 am]

BILLING CODE 6717-01-M